COMMISSION ON CIVIL RIGHTS

Agenda and Notice of Public Meeting of the Florida Advisory Committee

Notice is hereby given, pursuant to the provisions of the rules and regulations of the U.S. Commission on Civil Rights (Commission), and the Federal Advisory Committee Act (FACA), that a meeting of the Florida Advisory Committee (Committee) to the Commission will convene on Tuesday, July 28, 2009 at 1:30 p.m. and adjourn at approximately 3:30 p.m. at Brevard Community College, Carver Administration Building 2, Room 161, 1519 Clearlake Road, Cocoa, Florida. The purpose of the meeting is to discuss the Committee's report on fair housing enforcement. Members of the public are entitled to submit written comments. The comments must be received in the regional office by August 28, 2009. The address is U.S. Commission on Civil Rights, 61 Forsyth St., SW., Suite 18T40, Atlanta, GA 30303. Persons wishing to e-mail their comments, or to present their comments verbally at the meeting, or who desire additional information should contact Peter Minarik, Regional Director, Southern Regional Office, at (404) 562-7000 or 800-877-8339 for individuals who are deaf, hearing impaired, and/or have speech disabilities or by e-mail to pminarik@usccr.gov.

Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, http://www.usccr.gov, or to contact the Southern Regional Office at the above e-mail or street address.

The meeting will be conducted pursuant to the provisions of the rules and regulations of the Commission and FACA.

Dated in Washington, DC, July 7, 2009.
Peter Minarik,
Acting Chief, Regional Programs Coordination Unit.

[FR Doc. E9-16357 Filed 7-9-09; 8:45 am]

BILLING CODE 6335-01-P